DEPARTMENT OF THE INTERIOR

Bureau of Land Management

[WO-210-08-1610-PN]

Notice of Availability of Revised NEPA Handbook

AGENCY: Bureau of Land Management, Interior.

ACTION: Notice of availability.

SUMMARY: This notice announces the availability of the Bureau of Land Management's (BLM) Handbook to support implementation of the procedures the BLM uses to comply with the National Environmental Policy Act (NEPA).

DATES: You may submit written comments on the NEPA Handbook within 90 days following the date this Notice of Availability is published in the Federal Register.

ADDRESSES: You may submit comments by any of the following methods:

• E-mail: NEPA@blm.gov.

• Mail: U.S. Department of the Interior, Director (210), Bureau of Land Management, Mail Stop 850 LS, 1849 C St., NW., Attention: AD200, Washington, DC 20240.

• Personal or messenger delivery: 1620 L Street, NW., Room 850, Washington, DC 20036.

FOR FURTHER INFORMATION CONTACT: Peg Sorensen, Senior Planning and Environmental Analyst—NEPA, 202-557-3564, peg_sorensen@blm.gov.

Persons who use a telecommunications device for the deaf (TDD) may call the Federal Information Relay Service (FIRS) at 1-800-877-8339 to contact the above individuals during business hours. The FIRS is available twenty-four hours a day, seven days a week, to leave a message or question with the above individuals. You will receive a reply during normal business hours.

SUPPLEMENTARY INFORMATION: This notice announces the availability of the revised BLM NEPA Handbook for use by BLM personnel in the field. The handbook provides supplemental information, guidance, and examples to assure consistency with the Department of the Interior's Departmental Manual (DOI DM) and the Council on Environmental Quality (CEQ) NEPA regulations. The BLM NEPA Handbook (H-1790-1) was last updated October 25, 1988 and revisions are necessary to update the information and to reflect current NEPA guidance. The public can review the revised edition of the NEPA Handbook on the BLM Web site at http://www.blm.gov, on the left click on Information and then click on NEPA. Note that the Web Guide links will be functional at a later date. The handbook will be mailed to those who indicate that they want a hard copy or compact disk. The handbook is based upon current regulation, policy, and procedures.

The handbook revisions focus on helping the BLM improve analysis to support decision making. The revisions to the NEPA Handbook are also designed to make the NEPA process more efficient, avoiding redundant or unnecessary documentation. The revisions include updates to clarify definitions and incorporate new Departmental requirements.

Written Comments

The public is welcome to review and comment on the handbook. Today's publication is a notice of internal BLM guidance and not a rulemaking. Therefore, no formal comment period will occur resulting in no obligation for the BLM to respond or address comments from the public. If you choose to submit comments, please limit such comments to issues pertinent to the handbook itself and explain the reasons for any recommended changes. Where possible, reference the specific section or paragraph of the handbook which you are addressing.

Before including your address, phone number, e-mail address, or other personal identifying information in your comment, you should be aware that your entire comment, including your personal identifying information, may be made publicly available at any time. While you can ask us in your comment to withhold your personal identifying information from public review, we cannot guarantee that we will be able to do so.

Procedural Requirements: Although the NEPA Handbook is not a rulemaking, we have addressed the various procedural requirements that are generally applicable to proposed and final rulemaking to contribute to this open review process.

Regulatory Planning and Review

Under Executive Order 12866 (58 FR 51735, October 4, 1993) it has been determined that this action is the implementation of policy and procedures applicable only to the BLM and not a significant regulatory action. These policies and procedures would not impose a compliance burden on the general economy.

Administrative Procedure Act

The NEPA Handbook is not subject to prior notice and opportunity to comment under the Administrative Procedures Act because it provides internal guidance to BLM personnel [5 U.S.C. 553(b)(A)]. In addition, the Handbook does not establish agency procedures for implementing the NEPA, and therefore does not require review by the CEQ or public notice and the opportunity to comment under the CEQ regulations [40 CFR 1507.3(a)]. However, the Department of the Interior's (DOI) Office of Environmental Policy and Compliance has reviewed the Handbook, and the BLM has elected to invite public comment as well.

Regulatory Flexibility Act

This document is not subject to notice and comment under the Administrative Procedures Act, and, therefore, is not subject to the analytical requirements of the Regulatory Flexibility Act (5 U.S.C. 601 et seq.). This document provides the BLM with instruction and information under the NEPA and does not compel any other party to conduct any action.

Small Business Regulatory Enforcement Fairness Act

This handbook does not comprise a major rule under 5 U.S.C. 804(2), the Small Business Regulatory Enforcement Fairness Act. The document will not have an annual effect on the economy of $100 million or more and is expected to have no significant economic impacts. Further, it will not cause a major increase in costs or prices for consumers, individual industries, Federal, State, or local government agencies, or geographic regions and will [[Page 52596]] impose no additional regulatory restraints in addition to those already in operation. Finally, the document does not have significant adverse effects on competition, employment, investment, productivity, innovation, or the ability of United States based enterprises to compete with foreign based enterprises.

Unfunded Mandates Reform Act

In accordance with the Unfunded Mandates Reform Act (2 U.S.C. 1501, et seq.), this document will not significantly or uniquely affect small governments. A Small Government Agency Plan is not required. The document does not require any additional management responsibilities. Further, this document will not produce a Federal mandate of $100 million or greater in any year, that is, it is not a significant regulatory action under the Unfunded Mandates Reform Act. These policies and procedures are not expected to have significant economic impacts nor will they impose any unfunded mandates on other Federal, State, or local government agencies to carry out specific activities.

Federalism

In accordance with Executive Order 13132, this document does not have significant Federalism effects; and, therefore, a Federalism assessment is not required. The policies and procedures will not have substantial direct effects on the States, on the relationship between the Federal government and the States, or on the distribution of power and responsibilities among the various levels of government. No intrusion on State policy or administration is expected, roles or responsibilities of Federal or State governments will not change, and fiscal capacity will not be substantially, directly affected. Therefore, the document does not have significant effects or implications on Federalism.

Paperwork Reduction Act

This document does not require information collection as defined under the Paperwork Reduction Act. Therefore, this document does not constitute a new information collection system requiring Office of Management and Budget (OMB) approval under the Paperwork Reduction Act (44 U.S.C. 3501 et seq.).

National Environmental Policy Act

The CEQ regulations do not direct agencies to prepare a NEPA analysis or document before establishing agency procedures that supplement the CEQ regulations for implementing the NEPA. The requirements for establishing agency NEPA procedures are set forth at 40 CFR 1505.1 and 1507.3. As explained above, however, this Handbook does not establish procedures for implementing the NEPA but provides supplemental information, guidance, and examples for the use of BLM personnel in the field. Therefore, no NEPA analysis, or preparation of analytical documents pursuant to the NEPA is required to support its publication. To the extent any documentation of compliance with the NEPA or the CEQ regulations may be required; the DOI's Department Categorical exclusion 1.10 is applicable. See DOI DM 2 (Appendix 1).

Essential Fish Habitat

We have analyzed this document in accordance with section 305(b) of the Magnuson-Stevens Fishery Conservation and Management Act and determined that issuance of this document will not affect the essential fish habitat of federally managed species; and, therefore, an essential fish habitat consultation on this document is not required.

Consultation and Coordination With Indian Tribal Governments

In accordance with Executive Order 13175 of November 6, 2000, and 512 DM 2, we have assessed this handbook's impact on tribal trust resources and have determined that it does not directly affect tribal resources since it supports implementation of the BLM's procedures for its compliance with the NEPA.

Actions Concerning Regulations That Significantly Affect Energy Supply, Distribution, or Use

Executive Order 13211 of May 18, 2001, requires a Statement of Energy Effects for significant energy actions. Significant energy actions are actions normally published in the Federal Register that lead to the promulgation of a final rule or regulation and may have any adverse effects on energy supply, distribution, or use. We have explained above that this document is an internal BLM action which only affects how the BLM conducts its business under the NEPA. This handbook is not a rulemaking; and therefore, not subject to Executive Order 13211.

Actions To Expedite Energy-Related Projects

Executive Order 13212 of May 18, 2001, requires agencies to expedite energy-related projects by streamlining internal processes while maintaining safety, public health, and environmental protections. Today's publication is in conformance with this requirement as it promotes existing process streamlining requirements and revises the text to emphasize this concept.

Government Actions and Interference With Constitutionally Protected Property Rights

In accordance with Executive Order 12630 (March 15, 1988) and Part 318 of the Departmental Manual, the BLM has reviewed today's notice to determine whether it would interfere with constitutionally protected property rights. Again, we believe that as internal instructions to the BLM on implementation of the NEPA, this publication would not cause such interference.

James Caswell,
Director, Bureau of Land Management.

[FR Doc. E8-8866 Filed 4-23-08; 8:45 am]

BILLING CODE 4310-84-P